DEPARTMENT OF THE TREASURY

Internal Revenue Service

26 CFR Part 51

[REG-112805-10]

RIN 1545-BJ39

Branded Prescription Drug Fee; Correction

AGENCY: Internal Revenue Service (IRS), Treasury.

ACTION: Notice of public hearing on notice of proposed rulemaking by cross-reference to temporary regulations; correction.

SUMMARY: This document corrects a notice of public hearing on proposed rulemaking by cross-reference to temporary regulations (REG-112805-10) that was published in the Federal Register on Monday, August 6, 2012 (77 FR 46653) relating to the branded prescription drug fee imposed by the Affordable Care Act.

FOR FURTHER INFORMATION CONTACT: Concerning the proposed regulations, Celia Gabrysh (202) 622-3130, and regarding the submission of public comments and the public hearing, Ms. Oluwafunmilayo (Funmi) Taylor, at (202) 622-7180 (not toll-free numbers).

SUPPLEMENTARY INFORMATION:

Background

The notice of public hearing on a notice of proposed rulemaking by cross-reference to temporary regulations (REG-112805-10) that is the subject of this correction is under section 9008 of the Patient Protection and Affordable Care Act (ACA), Public Law 111-148 (124 Stat. 119 (2010)), as amended by section 1404 of the Health Care and Education Reconciliation Act of 2010 (HCERA), Public Law 111-152 (124 Stat. 1029 (2010)).

Need for Correction

As published, REG-112805-10, contains an error that may prove to be misleading and is in need of clarification.

Correction of Publication

Accordingly, the publication of the notice of public hearing on notice of proposed rulemaking by cross-reference to temporary regulations (REG-112805-10) which was the subject of FR Doc. 2012-19074, is corrected as follows:

On page 46653, column 2, in the preamble, under the caption ADDRESSES, line five, the language “DC 20224. Send Submissions to” is corrected to read “DC 20224. Due to building security procedures, visitors must enter at the Constitution Avenue entrance. In addition, all visitors must present photo identification to enter the building. Send submissions to”.

LaNita Van Dyke,
Chief, Publications and Regulations Branch, Legal Processing Division, Associate Chief Counsel, Procedure and Administration.

[FR Doc. 2012-19730 Filed 8-10-12; 8:45 am]

BILLING CODE 4830-01-P